ENVIRONMENTAL PROTECTION AGENCY

[EPA-HQ-OAR-2007-1196; FRL-9269-5]

Recent Postings of Broadly Applicable Alternative Test Methods

AGENCY: Environmental Protection Agency (EPA).

ACTION: Notice of availability.

SUMMARY: This notice announces the broadly applicable alternative test method approval decisions that EPA has made under and in support of New Source Performance Standards (NSPS) and the National Emission Standards for Hazardous Air Pollutants (NESHAP) in 2010.

FOR FURTHER INFORMATION CONTACT: For questions about this notice, contact Lula H. Melton, Air Quality Assessment Division, Office of Air Quality Planning and Standards (E143-02), Environmental Protection Agency, Research Triangle Park, NC 27711; telephone number: 919-541-2910; fax number: 919-541-0516; e-mail address: melton.lula@epa.gov. For technical questions about individual alternative test method decisions, refer to the contact person identified in the individual approval documents.

SUPPLEMENTARY INFORMATION:

I. General Information

A. Does this notice apply to me?

This notice will be of interest to entities regulated under 40 Code of Federal Regulations(CFR) parts 60, 61, and 63; State, local and Tribal agencies; and EPA Regional Offices responsible for implementation and enforcement of regulations under 40 CFR parts 60, 61, and 63.

B. How can I get copies of this information?

Copies of the broadly applicable alternative test method approval documents are available from EPA's Web site at http://www.epa.gov/ttn/emc/approalt.html.

II. Background

Broadly applicable alternative test method approval decisions made by EPA in 2010 under the NSPS, 40 CFR part 60 and the NESHAP, 40 CFR parts 61 and 63 are identified in this notice (see Table 1). Source owners and operators may voluntarily use these broadly applicable alternative test methods subject to their specific applicability. Use of these broadly applicable alternative test methods does not change the applicable emission standards.

As explained in a previous Federal Register notice published at 72 FR 4257 (January 30, 2007) and found on EPA's Web site at http://www.epa.gov/ttn/emc/approalt.html, the EPA Administrator has the authority to approve the use of alternative test methods to comply with requirements under 40 CFR parts 60, 61, and 63. This authority is found in sections 60.8(b)(3), 61.13(h)(1)(ii), and 63.7(e)(2)(ii). In the past, we have performed thorough technical reviews of numerous requests for alternatives and modifications to test methods and procedures. Based on these experiences, we have often found that these changes or alternatives would be equally valid and appropriate to apply to other sources within a particular class, category or subcategory. Consequently, we have concluded that, where a method modification or an alternative method is clearly broadly applicable to a class, category or subcategory of sources, it is both more equitable and efficient to approve its use for all appropriate sources and situations at the same time.

It is important to clarify that alternative methods are not mandatory but permissive. Sources are not required to employ such a method but may choose to do so in appropriate cases. Source owners or operators should review the specific broadly applicable alternative method approval decision on EPA's Web site at http://www.epa.gov/ttn/emc/approalt.html before electing to employ it. As per 63.7(f)(5), by electing to use an alternative method for 40 CFR part 63 standards, the source owner or operator must use the alternative method until approved otherwise.

The criteria for approval and procedures for submission and review of broadly applicable alternative test methods are outlined at 72 FR 4257 (January 30, 2007). We will continue to announce approvals for broadly applicable alternative test methods on EPA's Web site at http://www.epa.gov/ttn/emc/approalt.html and annually publish a notice that summarizes approvals for broadly applicable alternative test methods.

This notice comprises a summary of sixteen such approval documents added to our technology transfer network from January 1, 2010, through December 31, 2010. The alternative method decision letter or memo number, the reference method affected, sources allowed to use this alternative, and the modification or alternative method allowed are summarized in Table 1 of this notice. Please refer to the complete copies of these approval documents available from EPA's Web site at http://www.epa.gov/ttn/emc/approalt.html as the table serves only as a brief summary of the broadly applicable alternative test methods. If you are aware of reasons why a particular alternative test method approval that we issue should not be broadly applicable, we request that you make us aware of the reasons in writing and we will revisit the broad approval. Any objection to a broadly applicable alternative test method, as well as the resolution of that objection, will be announced on EPA's Web site at http://www.epa.gov/ttn/emc/approalt.html and in the subsequent Federal Register notice. If we should decide to retract a broadly applicable test method, we would continue to grant case-by-case approvals, as appropriate, and would (as States, local and Tribal agencies and EPA Regional Offices should) consider the need for an appropriate transition period for users either to request case-by-case approval or to transition to an approved method.

Dated: February 15, 2011.
Mary Henigin,
Acting Director, Office of Air Quality Planning and Standards.

Table 1—Approved Alternative Test Methods and Modifications to Test Methods Referenced in or Published Under Appendices in 40 CFR Parts 60, 61, and 63 Made Between January 2010 and December 2010
Alternative method decision letter/memo No. | As an alternative or modification to . . . | For . . . | You may . . .
ALT-064 | SW-846 Method 0023A—Sampling Method for Polychlorinated Dibenzo-p-Dioxins and Polychlorinated Dibenzofuran Emissions from Stationary Sources | Sources subject to 40 CFR part 63, subpart EEE—National Emission Standards for Hazardous Air Pollutants from Hazardous Waste Combustors | Omit the methylene chloride rinse, and combine acetone and toluene rinses.
ALT-065 | SW-846 Method 0011—Sampling for Selected Aldehyde and Ketone Emissions from Stationary Sources | Sources subject to 40 CFR part 63, subpart EEE—National Emission Standards for Hazardous Air Pollutants from Hazardous Waste Combustors | Use Method 320 in lieu of SW-846 Method 0011.
| SW-846 Method 0023A—Sampling Method for Polychlorinated Dibenzo-p-Dioxins and Polychlorinated Dibenzofuran Emissions from Stationary Sources | Sources subject to 40 CFR part 63, subpart EEE—National Emission Standards for Hazardous Air Pollutants from Hazardous Waste Combustors | Use Method 23 in lieu of SW-846 Method 0023A.
ALT-066 | Method 18—Measurement of Gaseous Organic Compound Emissions by Gas Chromatography | Sources subject to 40 CFR part 60, subpart JJJJ—Standards of Performance for Stationary Spark Ignition Internal Combustion Engines | Use TECO Model 55C analyzer to measure methane.
ALT-067 | Method 5A—Determination of Particulate Matter Emissions from the Asphalt Processing and Asphalt Roofing Industry | Asphalt processing and manufacturing sources subject to 40 CFR part 60, subpart UU; 40 CFR part 63, subpart LLLLL; and 40 CFR part 60, subpart AAAAAAA | Use 1-bromopropane in lieu of 1,1,1-trichloroethane specified in Method 5A.
ALT-069 | Performance Specification 4B—Specifications and Test Procedures for Carbon Monoxide and Oxygen Continuous Monitoring Systems in Stationary Sources | Sources subject to 40 CFR part 63, subpart EEE, National Emission Standards for Hazardous Air Pollutants from Hazardous Waste Combustors | Use Method 3A in lieu of Method 3B as specified in Performance Specification 4B.
| 6.4.1 of Appendix to Subpart EEE of Part 63—Quality Assurance Procedures for Continuous Emissions Monitors Used for Hazardous Waste Combustors | Sources subject to 40 CFR part 63, subpart EEE, National Emission Standards for Hazardous Air Pollutants from Hazardous Waste Combustors | Forego the use of Method 4 when both CEMS and RM systems are on a “dry” basis during RATAs and during compliance monitoring with the dry basis CEMS.
ALT-070 | Method 7—Determination of Nitrogen Oxide Emissions from Stationary Sources | Sources subject to 40 CFR part 60, subpart G, Standards of Performance for Nitric Acid Plants | Use Method 320 in lieu of Method 7 with the following caveats: (1) Ensure that no condensation be allowed to form in the sampling line by heating the sampling line up to and including the FTIR sampling cell, (2) follow the quality control procedures in Section 9.0 of Method 320 for all the compounds of interest, and (3) ensure that the recovery values are within acceptable limits as defined by Method 320.
ALT-071 | Method 16A—Determination of Total Reduced Sulfur Emissions from Stationary Sources (Impinger Techniques) | Sources subject to 40 CFR part 60, subpart BB—Standards of Performance for Kraft Pulp Mills | Use proposed Method 16C or an alternative procedure to Method 16A wherein the titration analysis is replaced with a sulfur dioxide analyzer.
ALT-072 | Method 18—Measurement of Gaseous Organic Compound Emissions by Gas Chromatography | Sources subject to 40 CFR part 63, subpart GGGGG, National Emission Standards for Hazardous Air Pollutants; Site Remediation | Use Method 25A in lieu of Method 18.
ALT-073 | Method 2—Determination of Stack Gas Velocity and Volumetric Flow Rate (Type S Pitot Tube), Method 2A—Direct Measurement of Gas Volume Through Pipes and Small Ducts, Method 2C—Determination of Gas Velocity and Volumetric Flow Rate in Small Stacks or Ducts (Standard Pitot Tube), or Method 2D—Measurement of Gas Volume Flow Rates in Small Pipes and Ducts | Sources subject to 40 CFR parts 60.18 and 63.11(b) | Use the mass flow meter in lieu of Method 2, 2A, 2C, or 2D to measure the flow rate for exit velocity at regulated flares as long as the calibration certification is in compliance with the manufacturer recommended frequency.
ALT-074 | Method 15—Determination of Hydrogen Sulfide, Carbonyl Sulfide, and Carbon Disulfide Emissions from Stationary Sources | Sources subject to 40 CFR part 63, subpart UUUU, National Emission Standards for Hazardous Air Pollutants from Cellulose Products Manufacturing | Use an alternative sampling procedure wherein composite samples are collected in tedlar bags in lieu of direct interface to the gas chromatograph as required in Method 15.
ALT-075 | Using a NOX CEMS for the initial 30-day compliance test as specified in 60.46b(e) | Sources subject to 40 CFR part 60, subpart Db, Standards of Performance for Industrial-Commercial-Institutional Steam Generating Units | Use a PEMS in lieu of a CEMS for the initial 30-day compliance test provided that the requirements of PS-16 are met, and the PEMS input sensors are operated in their established ranges over the 30-day test period.
ALT-076 | Method 18—Measurement of Gaseous Organic Compound Emissions by Gas Chromatography | Sources subject to 40 CFR part 60, subpart KKK, Standards of Performance for Equipment Leaks of VOC from Onshore Natural Gas Processing Plants | Use GPA Method 2261 in lieu of Method 18 to meet the requirements of 40 CFR part 60.18(f)(3).
ALT-077 | Method 316—Sampling and Analysis for Formaldehyde Emissions from Stationary Sources in the Mineral Wool and Wool Fiberglass Industries | Sources subject to 40 CFR part 63, subpart HHHH, National Emission Standards for Hazardous Air Pollutants for Wet-Formed Fiberglass Mat Production | Use Method 320 in lieu of Method 316.
| Method 318—Extractive FTIR Method for the Measurement of Emissions from the Mineral Wool and Wool Fiberglass Industries | Sources subject to 40 CFR part 63, subpart HHHH, National Emission Standards for Hazardous Air Pollutants for Wet-Formed Fiberglass Mat Production | Use Method 320 in lieu of Method 318.
ALT-078 | Procedures outlined in 40 CFR 60.4241(i) | Sources subject to 40 CFR part 60, subpart JJJJ—Standards of Performance for Stationary Spark Ignition Internal Combustion Engines | Use the TECO Model 55C analyzer to measure non-methane organic compounds in lieu of using a flame-ionization detector with a non-methane cutter as specified in 40 CFR 60.4241(i).
ALT-079 | NCASI 94.02—Chilled Impinger/Silica Gel Tube Test Method at Pulp Mill Sources for Methanol, Acetone, Acetaldehyde, Methyl Ethyl Ketone, and Formaldehyde | Sources subject to 40 CFR part 63, subpart S, National Emission Standards for Hazardous Air Pollutants from the Pulp and Paper Industry | Use the method titled “Selected HAPS in Condensates by GC/FID (NCASI Method DI/HAPS-99.01” in lieu of NCASI 94.02.
ALT-080 | Method 2—Determination of Stack Gas Velocity and Volumetric Flow Rate (Type S Pitot Tube), Method 2A—Direct Measurement of Gas Volume Through Pipes and Small Ducts, Method 2C—Determination of Gas Velocity and Volumetric Flow Rate in Small Stacks or Ducts (Standard Pitot Tube), or Method 2D—Measurement of Gas Volume Flow Rates in Small Pipes and Ducts | Sources subject to 40 CFR part 60.18 and 63.11(b) | Use an ultrasonic flow meter in lieu of Method 2, 2A, 2C, or 2D to measure the flare flow rate for exit velocity at regulated flares as long as the calibration certification is in compliance with the manufacturer recommended frequency.

Source owners or operators should review the specific broadly applicable alternative method approval letter on the EPA's Web site at http://www.epa.gov/ttn/emc/approalt.html before electing to employ it.

[FR Doc. 2011-3863 Filed 2-18-11; 8:45 am]

BILLING CODE 6560-50-P